DEPARTMENT OF TRANSPORTATION

Surface Transportation Board

[STB Finance Docket No. 34851]

Nittany and Bald Eagle Railroad Company—Temporary Trackage Rights Exemption—Norfolk Southern Railway Company

Norfolk Southern Railway Company (NSR) has agreed to grant non-exclusive, overhead, temporary trackage rights to Nittany and Bald Eagle Railroad Company (N&BE), over a portion of NSR's line between Driftwood, PA, at or near milepost 139.2, and Lock Haven, PA, at or near milepost 194.2, a distance of approximately 55 miles.¹

¹ In conjunction with its Notice of Exemption, N&BE filed a motion for a protective order to cover the written agreement between N&BE and NSR, the Temporary Trackage Rights Agreement. In a decision served on April 12, 2006, the Board granted the motion for a protective order, finding that N&BE's motion conformed to the Board's rules at 49 CFR 1104.14, governing protective orders to maintain the confidentiality of materials submitted to the Board. An unredacted version of the agreement was subject to the Protective Order and Undertakings, ensuring that the parties' confidential information would be used solely for this proceeding and not for other purposes.

The transaction is scheduled to be consummated on a date mutually agreed to in writing between N&BE and NSR, but shall occur no earlier than April 7, 2006, the effective date of the exemption (7 days after the exemption was filed). The temporary trackage rights will expire on December 30, 2006.

The purpose of this transaction is to allow N&BE adequate bridge train service for temporary, seasonal traffic originating on the N&BE for delivery to an off-line destination.

As a condition to this exemption, any employees affected by the acquisition of temporary trackage rights will be protected by the conditions imposed in Norfolk and Western Ry. Co.-Trackage Rights-BN, 354 I.C.C. 605 (1978), as modified in Mendocino Coast Ry., Inc.-Lease and Operate, 360 I.C.C. 653 (1980), and any employees affected by the discontinuance of these temporary trackage rights will be protected by the conditions set out in Oregon Short Line R. Co.-Abandonment—Goshen, 360 I.C.C. 91 (1979).

This notice is filed under 49 CFR 1180.2(d)(8). If it contains false or misleading information, the exemption is void ab initio. Petitions to revoke the exemption under 49 U.S.C. 10502(d) may be filed at any time. The filing of a petition to revoke will not automatically stay the transaction.

An original and 10 copies of all pleadings, referring to STB Finance Docket No. 34732, must be filed with the Surface Transportation Board, 1925 K Street, NW., Washington, DC 20423-0001. In addition, one copy of each pleading must be served on Richard R. Wilson, Esq., 127 Lexington Avenue, Suite 100, Altoona, PA 16601.

Board decisions and notices are available on our Web site at http://www.stb.dot.gov.

Decided: April 12, 2006.
By the Board, David M. Konschnik, Director, Office of Proceedings.
Vernon A. Williams,
Secretary.

[FR Doc. E6-5738 Filed 4-19-06; 8:45 am]

BILLING CODE 4915-01-P